DEPARTMENT OF COMMERCE

International Trade Administration

[A-583-853]

Certain Crystalline Silicon Photovoltaic Products From Taiwan: Preliminary Results of Antidumping Duty Administrative Review and Preliminary Determination of No Shipments; 2017-2018

AGENCY: Enforcement and Compliance, International Trade Administration, Department of Commerce.

SUMMARY: The Department of Commerce (Commerce) preliminarily determines that producers and/or exporters subject to this administrative review made sales of subject merchandise at less than normal value (NV) during the period of review (POR), February 1, 2017, through January 31, 2018. Interested parties are invited to comment on these preliminary results of review.

DATES: Applicable April 15, 2019.

FOR FURTHER INFORMATION CONTACT: Thomas Martin or Maisha Cryor, AD/CVD Operations, Office IV, Enforcement and Compliance, International Trade Administration, Department of Commerce, 1401 Constitution Avenue NW, Washington, DC 20230; (202) 482-3936 or (202) 482-5831, respectively.

SUPPLEMENTARY INFORMATION:

Background

Commerce is conducting an administrative review of the antidumping duty (AD) order on certain crystalline silicon photovoltaic products (solar products) from Taiwan, in accordance with section 751(a) of the Tariff Act of 1930, as amended (the Act). On April 16, 2018, based on timely requests for review, Commerce published a notice initiating an AD administrative review of solar products from Taiwan covering 31 companies for the POR.¹ On October 16, 2018, Commerce partially extended the preliminary results of this administrative review by 90 days until January 29, 2019. However, Commerce exercised its discretion to toll all deadlines affected by the partial federal government closure from December 22, 2018, through the resumption of operations on January 28, 2019, resulting in a revised deadline of March 11, 2019.² On February 28, 2019, Commerce fully extended the preliminary results of this administrative review by an additional 30 days until April 9, 2019.³ For a complete description of the events that followed the initiation of this review, see the Preliminary Decision Memorandum.

¹ See Initiation of Antidumping and Countervailing Duty Administrative Reviews, 83 FR 16298 (April 16, 2018) (Initiation Notice).

² See Memorandum, “Deadlines Affected by the Partial Shutdown of the Federal Government,” dated January 28, 2019. All deadlines in this segment of the proceeding have been extended by 40 days.

³ See Memorandum, “Certain Crystalline Silicon Photovoltaic Products from Taiwan: Extension of Deadline for Preliminary Results of Antidumping Duty Administrative Review,” dated February 28, 2019.

Export price is calculated in accordance with section 772 of the Act. NV is calculated in accordance with section 773 of the Act. For a full description of the methodology underlying our conclusions, see the Preliminary Decision Memorandum. A list of topics included in the Preliminary Decision Memorandum is included as an Appendix to this notice. The Preliminary Decision Memorandum is a public document and is on file electronically via Enforcement and Compliance's Antidumping and Countervailing Duty Centralized Electronic Service System (ACCESS). ACCESS is available to registered users at http://access.trade.gov and in the Central Records Unit, Room B8024 of the main Commerce building. In addition, a complete version of the Preliminary Decision Memorandum can be accessed directly at http://enforcement.trade.gov/frn/. The signed Preliminary Decision Memorandum and the electronic version of the Preliminary Decision Memorandum are identical in content.

Scope of the Order

The merchandise covered by this order is crystalline silicon photovoltaic cells, and modules, laminates and/or panels consisting of crystalline silicon photovoltaic cells, whether or not partially or fully assembled into other products, including building integrated materials.⁴ Merchandise covered by this order is currently classified in the Harmonized Tariff Schedule of the United States (HTSUS) under subheadings 8501.61.0000, 8507.20.8030, 8507.20.8040, 8507.20.8060, 8507.20.8090, 8541.40.6020, 8541.40.6030 and 8501.31.8000. These HTSUS subheadings are provided for convenience and customs purposes; the written description of the scope is dispositive.

⁴ For a complete description of the scope of the products under review, see Memorandum “Decision Memorandum for Preliminary Results of the 2017-2018 Antidumping Duty Administrative Review of Certain Crystalline Silicon Photovoltaic Products from Taiwan,” dated concurrently with, and hereby adopted by this notice (Preliminary Decision Memorandum).

Preliminary Determination of No Shipments

Thirteen of the companies under review properly filed a statement that they made no shipments of subject merchandise to the United States during the POR.⁵ Based on their certification and our analysis of U.S. Customs and Border Protection (CBP) information, we preliminarily determine that these thirteen companies had no reviewable transactions during the POR. Consistent with our practice, we are not preliminarily rescinding the review with respect to these thirteen companies, but, rather, we will complete the review for these companies and issue appropriate instructions to CBP based on the final results of this review.⁶ For additional information regarding this determination, see the Preliminary Decision Memorandum.

⁵ See certifications of no shipments filed by AU Optronics Corporation and Inventec Energy Corporation, dated May 7, 2018, and certifications of no shipments filed by Vina Solar Technology Co., Ltd, Baoding Jiasheng Photovoltaic Technology Co., Ltd., Baoding Tianwei Yingli New Energy Resources Co., Ltd., Beijing Tianneng Yingli New Energy Resources Co., Ltd., Hainan Yingli New Energy Resources Co., Ltd., Hengshui Yingli New Energy Resources Co., Ltd., Lixian Yingli New Energy Resources Co., Ltd., Shenzhen Yingli New Energy Resources Co., Ltd., Tianjin Yingli New Energy Resources Co., Ltd., Yingli Energy (China) Co., Ltd., and Yingli Green Energy International Trading Company Limited, dated May 16, 2018.

⁶ See Non-Market Economy Antidumping Proceedings: Assessment of Antidumping Duties, 76 FR 65694, 65694-95 (October 24, 2011) and the “Assessment Rates” section, below. See also Certain Frozen Warmwater Shrimp from Thailand; Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR 51306, 51307 (August 28, 2014).

Preliminary Results of the Review

As a result of this review, we calculated a weighted-average dumping margin of 7.77 percent for Motech and 1.00 percent for SAS-SEC ⁷ for the period February 1, 2017, through January 31, 2018. We assigned 4.39 percent, the weighted-average of the weighted-average dumping margins of the mandatory respondents using public-ranged sales values, to the sixteen non-selected companies in these preliminary results, as referenced below.⁸

⁷ Commerce has preliminarily determined to collapse, and treat as a single entity, affiliates Sino-American Silicon Products Inc., Solartech Energy Corp. and Sunshine PV Corporation. For our analysis of the collapsing criteria, see Memorandum, “Whether to Collapse the Sino-American Silicon Products Inc. and Solartech Energy Corporation entity with Sunshine PV Corporation in the 2017-2018 Antidumping Duty Administrative Review of Certain Crystalline Silicon Photovoltaic Products from Taiwan, dated April 9, 2019,” dated concurrently with this notice.

⁸ See Preliminary Decision Memorandum at 5. This rate is based on the weighted-average of the margins calculated for those companies selected for individual review using the publicly-ranged U.S. quantities. Because we cannot apply our normal methodology of calculating a weighted-average margin due to requests to protect business proprietary information, we find this rate to be the best proxy of the actual weighted-average margin determined for the mandatory respondents. See Ball Bearings and Parts Thereof from France, et al.: Final Results of Antidumping Duty Administrative Reviews, Final Results of Changed-Circumstances Review, and Revocation of an Order in Part, 75 FR 53661, 53663 (September 1, 2010); see also Memorandum, “Calculation of the Review-Specific Average Rate for the Preliminary Results,” dated concurrently with this notice.

⁹ In the 2014-2016 administrative review of the order, Commerce collapsed Sino-American Silicon Products Inc. and Solartech Energy Corp., and treated the companies as a single entity for purposes of the proceeding. See Certain Crystalline Silicon Photovoltaic Products from Taiwan: Final Results of Antidumping Duty Administrative Review; 2014-2016, 82 FR 31555 (July 7, 2017). Because there were no changes to the facts which supported that decision since that determination was made, we continue to find that these companies are part of a single entity for this administrative review. Additionally, we have preliminarily determined to collapse Sino-American Silicon Products Inc. and Solartech Energy Corp. with Sunshine PV Corporation.

Manufacturer/exporter | Weighted-average margin (percent)
Motech Industries, Inc | 7.77
Sino-American Silicon Products Inc., Solartech Energy Corp. and Sunshine PV Corporation ⁹ | 1.00
Boviet Solar Technology Co., Ltd | 4.39
Canadian Solar Inc | 4.39
Canadian Solar International, Ltd | 4.39
Canadian Solar Manufacturing (Changshu), Inc | 4.39
Canadian Solar Manufacturing (Luoyang), Inc | 4.39
Canadian Solar Solutions Inc | 4.39
EEPV CORP | 4.39
E-TON Solar Tech. Co., Ltd | 4.39
Gintech Energy Corporation | 4.39
Inventec Solar Energy Corporation | 4.39
Kyocera Mexicana S.A. de C.V | 4.39
Lof Solar Corp | 4.39
Sunengine Corporation Ltd | 4.39
Sunrise Global Solar Energy | 4.39
TSEC Corporation | 4.39
Win Win Precision Technology Co., Ltd | 4.39

Assessment Rates

Upon completion of the administrative review, Commerce shall determine, and CBP shall assess, antidumping duties on all appropriate entries covered by this review. Commerce intends to issue assessment instructions to CBP 15 days after the date of publication of the final results of this review.

For any individually examined respondents whose weighted-average dumping margin is above de minimis (i.e., 0.50 percent), we will calculate importer-specific ad valorem duty assessment rates based on the ratio of the total amount of dumping calculated for the importer's examined sales to the total entered value of those same sales in accordance with 19 CFR 351.212(b)(1).¹⁰ For entries of subject merchandise during the POR produced by each respondent for which it did not know its merchandise was destined for the United States, we will instruct CBP to liquidate un-reviewed entries at the all-others rate if there is no rate for the intermediate company involved in the transaction.¹¹ We will instruct CBP to assess antidumping duties on all appropriate entries covered by this review when the importer-specific assessment rate calculated in the final results of this review is above de minimis. Where either the respondent's weighted-average dumping margin is zero or de minimis, or an importer-specific assessment rate is zero or de minimis, we will instruct CBP to liquidate the appropriate entries without regard to antidumping duties.

¹⁰ In these preliminary results, Commerce applied the assessment rate calculation methodology adopted in Antidumping Proceedings: Calculation of the Weighted-Average Dumping Margin and Assessment Rate in Certain Antidumping Proceedings: Final Modification, 77 FR 8101 (February 14, 2012).

¹¹ See Antidumping and Countervailing Duty Proceedings: Assessment of Antidumping Duties, 68 FR 23954 (May 6, 2003).

The final results of this review shall be the basis for the assessment of antidumping duties on entries of merchandise covered by the final results of this review and for future deposits of estimated duties, where applicable.

Cash Deposit Requirements

The following deposit requirements will be effective upon publication of the notice of final results of administrative review for all shipments of solar products from Taiwan entered, or withdrawn from warehouse, for consumption on or after the date of publication of the final results of this administrative review, as provided for by section 751(a)(2)(C) of the Act: (1) The cash deposit rate for the companies under review will be the rate established in the final results of this review (except, if the rate is zero or de minimis, no cash deposit will be required); (2) for merchandise exported by manufacturers or exporters not covered in this review but covered in a prior segment of the proceeding, the cash deposit rate will continue to be the company-specific rate published for the most recently completed segment of this proceeding in which the manufacturer or exporter participated; (3) if the exporter is not a firm covered in this review, a prior review, or the less-than-fair-value investigation, but the manufacturer is, the cash deposit rate will be the rate established for the most recently completed segment of the proceeding for the manufacturer of the merchandise; and (4) the cash deposit rate for all other manufacturers or exporters will continue to be 19.50 percent ad valorem, the all-others rate established in the less-than-fair-value investigation.¹² These cash deposit requirements, when imposed, shall remain in effect until further notice.

¹² See Certain Crystalline Silicon Photovoltaic Products: Final Determination of Sales at Less Than Fair Value, 79 FR 76966 (December 23, 2014).

Disclosure and Public Comment

Commerce intends to disclose the calculations used in our analysis to interested parties in this review within five days of the date of publication of this notice in accordance with 19 CFR 351.224(b). Interested parties are invited to comment on the preliminary results of this review. Pursuant to 19 CFR 351.309(c)(1)(ii), interested parties may submit case briefs no later than 30 days after the date of publication of this notice. Rebuttal briefs, limited to issues raised in the case briefs, may be filed no later than five days after the time limit for filing case briefs.¹³ Parties who submit case briefs or rebuttal briefs in this proceeding are requested to submit with each brief: (1) A statement of the issue, (2) a brief summary of the argument, and (3) a table of authorities.¹⁴ Executive summaries should be limited to five pages total, including footnotes.¹⁵ Case and rebuttal briefs should be filed using ACCESS.¹⁶

¹³ See 19 CFR 351.309(d)(1).

¹⁴ See 19 CFR 351.309(c)(2) and (d)(2).

¹⁵ Id.

¹⁶ See 19 CFR 351.303.

Pursuant to 19 CFR 351.310(c), any interested party may request a hearing within 30 days of the publication of this notice in the Federal Register. If a hearing is requested, Commerce will notify interested parties of the hearing schedule. Interested parties who wish to request a hearing, or to participate if one is requested, must submit a written request to the Assistant Secretary for Enforcement and Compliance, filed electronically via ACCESS within 30 days after the date of publication of this notice. Requests should contain: (1) The party's name, address, and telephone number; (2) the number of participants; and (3) a list of the issues to be discussed. Issues raised in the hearing will be limited to those raised in the respective case and rebuttal briefs. If a request for a hearing is made, parties will be notified of the time and date for the hearing to be held at the U.S. Department of Commerce, 1401 Constitution Avenue NW, Washington, DC 20230.

We intend to issue the final results of this administrative review, including the results of our analysis of issues raised by the parties in the written comments, within 120 days of publication of these preliminary results in the Federal Register, unless otherwise extended.¹⁷

¹⁷ See section 751(a)(3)(A) of the Act.

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

These preliminary results of administrative review are issued and published in accordance with sections 751(a)(1) and 777(i)(1) of the Act.

Dated: April 8, 2019.
Gary Taverman,
Deputy Assistance Secretary for Antidumping and Countervailing Duty Operations, performing the non-exclusive functions and duties of the Assistant Secretary for Enforcement and Compliance.

Appendix

List of Topics Discussed in the Preliminary Decision Memorandum

I. Summary

II. Background

III. Scope of the Order

IV. Affiliation and Collapsing

V. Companies Not Selected for Individual Examination

VI. Preliminary Determination of No Shipments

VII. Discussion of the Methodology

VIII. Recommendation

[FR Doc. 2019-07428 Filed 4-12-19; 8:45 am]

BILLING CODE 3510-DS-P